DEPARTMENT OF JUSTICE

Parole Commission

Sunshine Act Meeting Pursuant to the Government in the Sunshine Act (Public Law 94-409) (5 U.S.C. 552b)

Agency Holding Meeting: Department of Justice, United States Parole Commission.

Time and Date: 3:30 p.m., Thursday, July 28, 2005.

Place: U.S. Parole Commission, 5550 Friendship Boulevard, 4th Floor, Chevy Chase, Maryland 20815.

Status: Closed—Meeting.

Matters to be Considered: The following matter will be considered during the closed Business Meeting:

Procedure to be followed for review of one original jurisdiction case upon request of the Attorney General as provided in 18 U.S.C. 4215(c).

Agency Contact: Thomas W. Hutchison, Chief of Staff, United States Parole Commission, (301) 492-5990.

Dated: July 21, 2005.
Rockne Ghickinell,
General Counsel.

[FR Doc. 05-14797 Filed 7-22-05; 11:09 am]

BILLING CODE 4410-31-M